DEPARTMENT OF TRANSPORTATION

Federal Aviation Administration

14 CFR Part 39

[Docket No. FAA-2011-0449; Directorate Identifier 2010-SW-021-AD]

RIN 2120-AA64

Airworthiness Directives; Bell Helicopter Textron Canada (Bell) Model 206A, 206B, and 206B3 Helicopters

AGENCY: Federal Aviation Administration (FAA) DOT.

ACTION: Notice of proposed rulemaking (NPRM).

SUMMARY: We propose to adopt a new airworthiness directive (AD) for the specified Bell model helicopters. This proposed AD would require revising the Operating Limitations, Section 1, of the Rotorcraft Flight Manual (RFM) to add an operating limitation when a litter kit is installed. This proposed AD is prompted by the need for corresponding operating limitations prohibiting flight, including hover, with the litter doorpost removed when certain litter kits are installed. The actions specified by this proposed AD are intended to add an operating limitation when a litter kit is installed to prohibit flight with the doorpost removed to prevent loss of structural integrity of the fuselage.

DATES: Comments must be received on or before July 12, 2011.

ADDRESSES: Use one of the following addresses to submit comments on this proposed AD:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this proposed AD from Bell Helicopter Textron Canada Limited, 12,800 Rue de l'Avenir, Mirabel, Quebec J7J1R4, telephone (450) 437-2862 or (800) 363-8023, fax (450) 433-0272, or at http://www.bellcustomer.com/files/.

You may examine the comments to this proposed AD in the AD docket on the Internet at http://www.regulations.gov.

FOR FURTHER INFORMATION CONTACT: Mark Wiley, Aviation Safety Engineer, FAA, Rotorcraft Directorate, Regulations and Guidance Group, 2601 Meacham Blvd., Fort Worth, Texas 76137, telephone (817) 222-5134, fax (817) 222-5961.

SUPPLEMENTARY INFORMATION:

Comments Invited

We invite you to send any written relevant data, views, or arguments about this proposed AD. Send your comments to an address listed under the caption ADDRESSES. Include the Docket No. “FAA-2011-0449, Directorate Identifier 2010-SW-021-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact with FAA personnel concerning this proposed rulemaking. Using the search function of the docket Web site, you can find and read the comments to any of our dockets, including the name of the individual who sent or signed the comment. You may review the DOT's complete Privacy Act Statement in the Federal Register published on April 11, 2000 (65 FR 19477-78).

Examining the Docket

You may examine the docket that contains the proposed AD, any comments, and other information in person at the Docket Operations office between 9 a.m. and 5 p.m., Monday through Friday, except Federal holidays. The Docket Operations office (telephone (800) 647-5527) is located in Room W12-140 on the ground floor of the West Building at the street address stated in the ADDRESSES section. Comments will be available in the AD docket shortly after receipt.

Discussion

Bell reissued RFM Supplement (RFMS) BHT-206A-FMS-8 for the Model 206A, BHT-206B-FMS-8 for the Model 206B, and BHT-206B3-FMS-2 for the Model 206B3 helicopters, all dated December 30, 2009, approved by Transport Canada and the FAA. The revisions to the RFMS were reformatted to match the RFM and to add a “Type of Operation” paragraph to Section 1 of the “Operating Limitations,” which states: “Flight, including hover, with litter doorpost removed is not approved. Litter doorpost may be removed and re-installed with rotor turning at flat pitch.”

FAA's Evaluation and Unsafe Condition Determination

These helicopters have been approved by the aviation authority of Canada and are approved for operation in the United States. We are proposing this AD because we evaluated all information provided by Transport Canada and determined the unsafe condition exists and is likely to exist or develop on other helicopters of these same type designs. This proposed AD would require revising the RFM by inserting into the Operating Limitations, Section 1, of the RFM the following statement: “Flight, including hover, with litter doorpost removed is prohibited.” This revision may be made by pen and ink changes, inserting a copy of this AD into the RFM, or inserting a copy of the RFMS dealing with Litter Kits into the RFM as follows: For Model 206A helicopters—inserting RFMS BHT-206A-FMS-8, dated December 30, 2009, into RFM BHT-206A-FM-1, dated July 2, 2009; for Model 206B helicopters—inserting RFMS BHT-206B-FMS-8, dated December 30, 2009, into RFM BHT-206B-FM-1, dated July 2, 2009; and for Model 206B3 helicopters—inserting RFMS BHT-206B3-FMS-2, dated December 30, 2009, into RFM BHT-206B3-FM-1, dated March 24, 2010. This limitation is required to prevent loss of structural integrity of the helicopter fuselage.

Costs of Compliance

We estimate this proposed AD would affect 1,463 helicopters of U.S. registry. The cost to revise the operating limitations section of the RFM for each helicopter would be negligible, and there are no required parts.

Regulatory Findings

We have determined that this proposed AD would not have federalism implications under Executive Order 13132. Additionally, this proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this proposed AD. See the AD docket to examine the economic evaluation.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. Section 39.13 is amended by adding a new airworthiness directive (AD) to read as follows:

Bell Helicopter Textron Canada: Docket No. FAA-2011-0449; Directorate Identifier 2010-SW-021-AD.

Applicability: Model 206A, 206B, and 206B3 helicopters, with Litter Kit, part number 206-706-122 or 206-706-324, installed, certificated in any category.

Compliance: Within 6 months, unless accomplished previously.

To add an operating limitation when a litter kit is installed to prohibit flight, including hover, with the litter doorpost removed to prevent loss of structural integrity of the fuselage, do the following:

(a) Revise the Rotorcraft Flight Manual (RFM) by inserting into the Operating Limitations, Section 1, of the RFM the following statement: “Flight, including hover, with the litter doorpost removed is prohibited.” This revision may be made by pen and ink changes, inserting a copy of this AD into the RFM, or inserting a copy of the RFM Supplement (RFMS) dealing with Litter Kits as follows: For Model 206A helicopters—inserting RFMS BHT-206A-FMS-8, dated December 30, 2009, into RFM BHT-206A-FM-1, dated July 2, 2009; for Model 206B helicopters—inserting RFMS BHT-206B-FMS-8, dated December 30, 2009, into RFM BHT-206B-FM-1, dated July 2, 2009; and for Model 206B3 helicopters—inserting RFMS BHT-206B3-FMS-2, dated December 30, 2009, into RFM BHT-206B3-FM-1, dated March 24, 2010.

(b) To request a different method of compliance or a different compliance time for this AD, follow the procedures in 14 CFR 39.19. Contact the Manager, Safety Management Group, ATTN: Mark Wiley, Aviation Safety Engineer, FAA, Rotorcraft Directorate, Regulations and Guidance Group, 2601 Meacham Blvd., Fort Worth, Texas 76137, telephone (817) 222-5134, fax (817) 222-5961, for information about previously approved alternative methods of compliance.

(c) The Joint Aircraft System/Component (JASC) Code is 5300: Fuselage structure (general).

Issued in Fort Worth, Texas, on January 31, 2011.
Kim Smith,
Manager, Rotorcraft Directorate, Aircraft Certification Service.

[FR Doc. 2011-11753 Filed 5-12-11; 8:45 am]

BILLING CODE 4910-13-P